DEPARTMENT OF THE INTERIOR

Bureau of Land Management

[LLWO320000 L13300000.PP0000 12X]

Renewal of Approved Information Collection

AGENCY: Bureau of Land Management, Interior.

ACTION: 30-day notice and request for comments.

SUMMARY: The Bureau of Land Management (BLM) has submitted an information collection request to the Office of Management and Budget (OMB) to continue the collection of information regarding leases of solid minerals other than coal and oil shale. The Office of Management and Budget (OMB) previously approved this information collection activity, and assigned it control number 1004-0121.

DATES: The OMB is required to respond to this information collection request within 60 days but may respond after 30 days. For maximum consideration, written comments should be received on or before March 4, 2013.

ADDRESSES: Please submit comments directly to the Desk Officer for the Department of the Interior (OMB #1004-0121), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0121” regardless of the form of your comments.

FOR FURTHER INFORMATION CONTACT: Vince Vogt, at 202-912-7125. Persons who use a telecommunication device for the deaf (TDD) may call the Federal Information Relay Service (FIRS) at 1-800-877-8339, to leave a message for Mr. Vogt. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on September 27, 2012 (77 FR 59415), and the comment period ended November 26, 2012. The BLM received one comment in response to this from the public in response to this notice. The comment neither addressed, nor was germane to, this information collection. Therefore, the BLM has not changed the collection in response to the comment.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0121 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Leasing of Solid Minerals Other Than Coal and Oil Shale (43 CFR Parts 3500, 3580, and 3590).

OMB Control Number: 1004-0121.

Abstract: This control number enables the BLM to fulfill its responsibilities regarding prospecting permits, exploration licenses, leases, the exchange of leases, use permits, and the regulation of mining activities for solid minerals other than coal or oil shale. The information activities currently approved under control number 1004-0121 include requirements that an applicant, a permittee or a lessee submit information that enables the BLM to:

• Determine if applicants, permittees, and lessees meet qualification criteria;

• Assure compliance with various other legal requirements relating to the leasing of solid minerals other than coal or oil shale;

• Gather data needed to determine the environmental impacts of developing solid leasable minerals other than coal or oil shale;

• Maintain accurate leasing records; and

• Oversee and manage the leasing of solid minerals other than coal or oil shale.

Frequency of Collection: On occasion.

Description of Respondents: Applicants for, and holders of, the following items in connection with solid minerals other than coal or oil shale:

• Prospecting permits;

• Exploration licenses;

• Leases; and

• Use permits.

Estimated Annual Responses: 473.

Estimated Annual Burden Hours: 16,346.

Estimated Reporting and Recordkeeping “Non-Hour Cost” Burden Annually: $562,915 in fixed and case-by-case document processing fees.

Jean Sonneman,
Information Collection Clearance Officer, Bureau of Land Management.

[FR Doc. 2013-02101 Filed 1-30-13; 8:45 am]

BILLING CODE 4310-84-P